FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), to approve of and assign OMB numbers to collection of information requests and requirements conducted or sponsored by the Board. Board-approved collections of information are incorporated into the official OMB inventory of currently approved collections of information. Copies of the PRA Submission, supporting statements and approved collection of information instruments are placed into OMB's public docket files. The Federal Reserve may not conduct or sponsor, and the respondent is not required to respond to, an information collection that has been extended, revised, or implemented on or after October 1, 1995, unless it displays a currently valid OMB number.

DATES: Comments must be submitted on or before January 25, 2016.

ADDRESSES: You may submit comments, identified by FR 3066a, b, c, and d, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room 3515, 1801 K Street (between 18th and 19th Streets NW.). Washington, DC 20006 between 9:00 a.m. and 5:00 p.m. on weekdays.

Additionally, commenters may send a copy of their comments to the OMB Desk Officer—Shagufta Ahmed—Office of Information and Regulatory Affairs, Office of Management and Budget, New Executive Office Building, Room 10235, 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposal

The following information collection, which is being handled under this delegated authority, has received initial Board approval and is hereby published for comment. At the end of the comment period, the proposed information collection, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal To Approve Under OMB Delegated Authority the Extension for Three Years, With Revision, of the Following Report

1. Report title: Federal Reserve Payments Study.

Agency form number: FR 3066a, b, c, and d.

OMB control number: 7100-0351.

Frequency: FR 3066a, b: triennial with shorter annual versions to a subset of respondents, FR 3066c: triennial, and FR 3066d: annual and on occasion.

Reporters: Depository and financial institutions, payment networks, payment processors, and payment instrument issuers.

Estimated annual reporting hours: FR 3066a triennial: 43,200 hours; FR 3066a annual: 1,700 hours; FR 3066b triennial: 1,000 hours; FR 3066b annual: 150 hours; FR 3066c: 450 hours: FR 3066d: 600 hours.

Estimated average hours per response: FR 3066a triennial: 32 hours; FR 3066a annual: 10 hours; FR 3066b triennial: 8 hours; FR 3066b annual: 5 hours; FR 3066c: 3 hours: FR 3066d: 12 hours.

Number of respondents: FR 3066a triennial: 1,350 respondents; FR 3066a annual: 85 respondents; FR 3066b triennial: 125 respondents; FR 3066b annual: 15 respondents; FR 3066c: 150 respondents: FR 3066d: 50 respondents.

General description of report: This information collection is broadly authorized under sections 2A and 12A of the Federal Reserve Act (12 U.S.C. 225a and 12 U.S.C. 263) and is voluntary. The information is given confidential treatment (5 U.S.C. 552(b)(4))).

Abstract: The FR 3066a, FR 3066b, and FR 3066c are triennial surveys. The FR 3066d is conducted up to one time per year. These surveys are designed to collect information needed to support the Federal Reserve System's (FRS) role in the retail payments system.¹

¹ The Federal Reserve plays a vital role in the U.S. payments system, fostering its safety and efficiency, and providing a variety of financial services to depository institutions. The Federal Reserve is involved with both retail and wholesale payments. Retail payments are generally for relatively small-dollar amounts and often involve a depository institution's retail clients—individuals, businesses, and governments. The Reserve Banks' retail services include distributing currency and coin, collecting checks, and electronically transferring funds through the automated clearinghouse system. By contrast, wholesale payments are generally for large dollar amounts, and often involve a depository institution's large corporate customers or counterparties, including other financial institutions.

The FR 3066a, FR 3066b, FR 3066c, and FR 3066d are the latest iteration of the Federal Reserve Payments Study (FRPS), which has been conducted since 2000. The FRPS originated from a system-wide effort to improve the measurement and public availability of information on volumes and trends in checks and other noncash payments. Despite the retail payments system's critical importance in supporting everyday commerce, there was a significant gap in quantitative information on U.S. retail payments before 2000. The FRPS filled this gap by providing a reliable and transparent non-mandatory survey-based approach to collecting payments industry data on retail payment volumes and trends.

A U.S. payments system that is safe, efficient, and broadly accessible is vital to the U.S. economy, and the Federal Reserve plays an important role in promoting these qualities as a leader, catalyst for change, and provider of payment services to financial institutions and the U.S. Treasury. In 2012, Federal Reserve Financial Services (FRFS), managed by the Reserve Banks, refreshed its strategic direction to focus on meeting the evolving needs of payment system users for end-to-end payment speed, efficiency and security, while remaining true to its longstanding financial services mission to foster the integrity, efficiency and accessibility of the U.S. payment system.² FRFS identified gaps in available data on payments fraud and payment security threats. In support of these efforts, the Federal Reserve proposes to leverage the FR 3066 surveys, where appropriate, to collect and improve the availability of aggregate payments fraud and security information.

² See the FedPayments Improvement Web site for more information (https://fedpaymentsimprovement.org/).

The FRPS helps to support FRFS goals by producing information on aggregate volumes and trends in the payments system and sharing that information with the financial services and payments industry and the public. The aggregate survey results are widely cited in academic working papers and journal articles, industry publications, reported in the media, and used by the public, industry, and the Federal Reserve as the quantitative aggregate benchmark on payments activity in the United States. Questions in the surveys consist primarily of quantitative payment transaction volume data in the form of number-value pairs, and require knowledgeable personnel at participating organizations to reference their confidential commercial and financial records. The surveys also contain a smaller amount of categorical questions (e.g., Yes/No/Don't Know) to help clarify the meaning and content of the responses to volume questions. Because of the confidential nature of the information, individual response data are only used to produce aggregate estimates and are not disclosed.

The Retail Payments Risk Forum (RPRF) and the Retail Payments Office (RPO) play key roles within the Federal Reserve's strategic framework. The mission of the RPRF is to identify, detect, and encourage mitigation of risk in retail payments through research, and through collaboration with industry stakeholders. RPRF will provide leadership and assistance with the surveys, in recognition of the importance of payments security to the FRS and the increasing focus on payments fraud and security of the FRPS. The RPO provides leadership in payments services, operates check and Automated Clearing House (ACH) clearance services, and will continue to support study planning, contractor procurement, contracting, and survey execution.

As the noncash payments system has continued to grow larger and more complex and as policymakers, the industry, and the public face more choices related to the payments system, the Federal Reserve believe that the data collected under the FR 3066 surveys play a crucial role in objectively maintaining and updating quantitative information on the U.S. retail payments system and should be continued in 2016 through 2018. The FRS's role as a trusted leader in payments processing, its essential role in policymaking, and the successful record of the data collected under the FRPS uniquely positions the Federal Reserve to collect these data.

The FR 3066a currently collects information on the national volume (number and value) of major categories and subcategories of established and emerging methods of payment from a nationally representative stratified random sample of depository institutions.³ Most questions in the surveys consist of payment and related transactions organized as number-value pairs. The FR 3066b currently comprises 15 different surveys, each specific to a particular payment instrument and/or respondent type (respondents only answer surveys that apply to their organizations). It collects information from a census of payment networks, processors, and issuers. The FR 3066c currently collects data from samples of individual checks obtained from a set of depository institutions. The FR 3066d is an ad-hoc supplement to the other FR 3066 surveys.

³ To obtain comprehensive coverage of total national volumes the survey may also include non-depository financial institutions.

The Federal Reserve currently use data collected from the FR 3066a and FR 3066b to estimate aggregate totals and trends in (1) the number and value of various types of payment and withdrawal transactions processed by financial institutions that hold transaction deposit, prepaid card program, or credit card accounts domiciled in the United States; (2) the number and value of various types of payments that are facilitated by payment networks, payment processors, and payment instrument issuers within the United States; (3) inter- and intra-bank volumes; (4) the usage of different types of prepaid cards; (5) transaction volumes of emerging payment methods; and (6) relevant non-transactional volumes, such as the number of accounts, number of payment cards outstanding, volumes of returned checks, and volumes of third-party payment fraud. Data from these two surveys is also used to estimate volumes and trends in cash usage, which are connected to noncash payment trends, the cash issuance responsibilities of the Federal Reserve, and the cash distribution responsibilities of the Reserve Banks. The information about checks collected from the FR 3066c is currently used to estimate the distribution of checks among broad categories of payers, payees, and purposes. These data help identify what types of check payments are declining as well as remaining opportunities for the replacement of checks with other payment instruments.

Current Actions: The Federal Reserve proposes the following revisions to the FR 3066 surveys, which would be effective for the surveys administered in 2016.

The FR 3066a and FR 3066b were designed to support a triennial data collection. The Federal Reserve proposes to continue the triennial data collection for 2015 data and to add shorter, annual surveys to update high-priority items from a relatively small set of participants for 2016 data and for 2017 data.

The Federal Reserve proposes to revise the FR 3066a to collect data for the full calendar year 2015 instead of a single month, as was the case in the 2013 survey. This will improve the quality of aggregate estimates by removing the need to annualize monthly data, making the estimates less sensitive to annual seasonality, and providing closer comparability with data collected in FR 3066b. The change from a month to a year does not affect the number of reported items. Because of greater availability and automation of data reporting systems at many depository institutions, this revision is not expected to significantly affect the reporting burden.⁴

⁴ Evidence of this is based on data collected in other surveys conducted by the Federal Reserve, and a recent survey conducted by the 3066a contractor. Support for this view was also expressed by various depository institution participants and other survey researchers.

The Federal Reserve proposes to revise the data collection processes for the FR 3066a and FR 3066b to more effectively employ adaptive survey methods, supplemented by the use and collection of survey paradata.⁵ For example, to adapt to relatively low past response probabilities and incomplete responses, particularly in some smaller-institution survey strata, some participants may receive shorter survey forms with selected questions or entire sections removed. The survey paradata would provide information to assess the influence of differential treatment and to possibly adjust for any bias that might otherwise be introduced into the estimation process.

⁵ Adaptive methods include Survey paradata is administrative information generated during the conduct of the survey describing the survey process, including differential treatments and records of any communication such as telephone conversations and Web site interactions.

In 2013, the FRPS began collecting information on payments fraud from depository institutions responding to FR 3066a, and established baseline aggregate estimates for unauthorized third-party fraud payments by payment type. The Federal Reserve would use new information collected on payments fraud to update totals for 2015 and to estimate trends in unauthorized third-party payments fraud.

The Federal Reserve proposes revisions to the survey questions based on the need to further expand the collection of payments-related fraud and security information, respond to new developments in technology and choices in the payments marketplace, and adjust for lessons learned from the 2013 data collection. Most of the proposed expanded fraud questions would be in the 3066b surveys sent to payment networks, issuers, and processors. The expanded questions on fraud and payments security are based on an attempt to align the questions with the way that various participating organizations have said they already track and compile such information.

In addition, more detailed fraud baseline information would be collected through follow-on studies, including the FR 3066d, or possibly in questions included in another triennial study approved in a future clearance process.

The Federal Reserve proposes revising the FR 3066c data collection process to include check images processed via the Reserve Banks' check service. The additional data are expected to improve the variety and quality of data used to estimate the proportion of checks by categories such as payers, payees, and purposes.

FR 3066a. The Federal Reserve proposes changing the survey reference period. Flows such as payment volumes would be reported for the entire year. Stocks, such as the number or value of accounts would be reported as the average of end-of-month totals for the calendar year. The current survey collects the flows for the month of March and stocks for March 31.

In general, proposed questions have been added requesting the total payment transactions of each major payment type to be allocated to consumer and business categories. The current survey includes such questions for cards only.

Most proposed changes are specific to the section or type of payment as described below.

1. Institution Profile: In the current version, respondents verify which affiliates are associated with their survey responses and provide corrections. The Federal Reserve proposes to remove the verification step, reducing the amount of up-front analysis required of the respondent. Some relatively simple qualitative questions would be included that are expected to help tailor the survey to the institution, reducing overall response time.

The Federal Reserve proposes to change the language describing customer deposit accounts to better reflect the types of accounts from which payments are made. The Federal Reserve also proposes adding questions on sweep balances that would be reported separately to aid in understanding related payment volumes.

The proposed revision would reduce the number of verifications required which is proportional to the complexity of the participating institution.

2. Checks:

a. Check Payments: The proposed check payments section would include 8 questions compared with 5 questions in the current survey, for a net increase of 3 questions.

b. Check Deposits: The Federal Reserve proposes adding questions regarding ATM imaging of paper check deposits both at the institution's own ATMs and at “foreign” institution ATMs through deposit-sharing agreements. Respondents would report remotely created checks they collect, including those created by the bank of first deposit and by client customers. The proposed check deposits section would include 23 questions compared with 11 in the current survey, for a net increase of 12 questions.

c. Outgoing and On-Us Check Returns: The Federal Reserve proposes adding questions to obtain detail about the reasons for returned checks, particularly unauthorized fraud-related returns. The proposed section would include 12 questions compared with 5 questions in the current survey, for a net increase of 7 questions.

3. ACH Credits and ACH Debits: The Federal Reserve proposes adding questions that sum network and in-house on-us volume of payments.⁶ Credits and debits would continue to be reported separately. Directly exchanged ACH entries are reported separately in the current survey and the Federal Reserve proposes they be consolidated with network ACH entries. The Federal Reserve proposes to add questions on ACH payments settled same-day and otherwise. The proposed section includes 28 questions compared with 14 questions in the current survey, for a net increase of 14 questions.

⁶ In-house on-us is a term of art meant to cover only those on-us payments (where the account transfer takes place between two accounts at the same depository institution) that are processed in-house (meaning not sent over an ACH network). This distinction is unique to ACH because some depository institutions send on-us ACH payments to network operators, and the distinction is necessary to properly measure the activity.

4. ACH returns: The Federal Reserve proposes adding this section. Respondents would report the number and value of returned ACH transactions drawn on customer accounts, which are outgoing for ACH debit transactions and incoming for returned ACH credit transactions. Respondents would report reasons for returned ACH transactions, particularly unauthorized fraud-related reasons. The proposed new section includes 10 new questions.

5. Wire transfer originations: The Federal Reserve proposes adding questions regarding wire originations allocated to interbank (over a network or directly exchanged) and book transfers. The proposed section includes 13 questions compared with 10 questions in the current survey, a net increase of 3 questions.

6. Wire transfer receipts: The Federal Reserve proposes adding this new section with questions on wire transfers received by beneficiaries allocated to categories as with originations. Respondents would also report wire receipts allocated to interbank (over a network or directly exchanged) and book transfers. The proposed new section includes 13 new questions.

7. General-Purpose Debit and Prepaid Cards: The Federal Reserve proposes restructuring this section to better match developments in technology and established categories by which depository institutions track transactions. Proposed revisions include adding questions on the number of debit and prepaid cards provisioned to mobile devices and digital wallets, and questions to allocate volumes into person-present/merchant point-of-sale volumes and remote volumes. Person-present volumes would be further allocated into signature, PIN, or other/no signature required. Questions in the current survey allocating prepaid accounts and cards to those managed by the responding institution and those managed by a third-party are proposed to be replaced with allocations between reloadable and non-reloadable/gift accounts and cards. The proposed section includes 33 questions compared with 20 questions in the current survey, a net increase of 13 questions.

8. General-Purpose Credit Cards: The Federal Reserve proposes a restructuring of questions so that network transactions would be separated from non-network transactions. The Federal Reserve proposes adding questions to collect information on consumer accounts allocated by revolving balances and current balances. As with debit and prepaid cards, the Federal Reserve proposes restructuring this section to better match developments in technology and established categories by which depository institutions track transactions, and to add questions on the number of credit cards provisioned to mobile devices and digital wallets. The proposed section includes 29 questions compared with 16 in the current survey, for a net increase of 13 questions.

9. Cash Withdrawals and Deposits: The Federal Reserve proposes adding questions on ATM cards in force, and additional clarifying questions on ATM terminals at branch locations. The proposed section includes 34 questions compared with 23 questions in the current survey, for a net increase of 11 questions.

10. Alternative Payment Initiation Methods: The Federal Reserve proposes adding questions on business-to-person and business-to-business payments, in parallel with questions on person-to-person payments in the current survey. The proposed section includes 12 questions compared with 7 questions in the current survey, for a net increase of 5 questions.

11. Unauthorized Third-Party Payment Fraud: The Federal Reserve proposes restructuring the section for debit, prepaid, and credit cards as described above. The Federal Reserve also proposes to add questions on fraudulent wire transfers originated. The proposed section includes 23 questions compared with 12 questions in the current survey, for a net increase of 11 questions.

FR 3066b. Proposed changes include the introduction of four new surveys and broad changes to the existing surveys to account for the greater need for payments fraud-prevention, and security information, new developments in payment technology, and adjustments that reflect lessons learned from the previous information collection.

The Federal Reserve proposes to add new surveys to cover ATM networks and ATM processors, in response to demand for richer information about developments in the ATM industry. In addition, the Federal Reserve added a new transit system operator survey that would be sent to such participants in place of the private-label prepaid card processor and issuer survey. This survey is designed to be easier to understand and more consistent with standard reports of organizations that operate transit systems. Similarly, the Federal Reserve added an electronic benefits transfer (EBT) processor survey which would be sent to organizations that contract with the government to administer such programs in place of the private-label prepaid card issuer and processor survey.

The Federal Reserve proposes including new questions in each of the new and existing surveys on the number and value of fraudulent transactions. The new questions would request fraud transactions by type of fraud using established issuer-reported categories, such as lost card, stolen card, counterfeit card, and stolen card data. Fraud transactions would also be allocated by card entry mode and card verification methods in parallel to the allocations requested for transactions. Where appropriate, the Federal Reserve proposes to request information on issued cards and payment device acceptance terminals associated with reported payment volumes.

Transaction value distributions in the current surveys contained only one value category above $50, overlooking a significant portion of transactions in some cases. The Federal Reserve proposes to revise distributions in the surveys to include breakouts above $50 to better reflect higher-value transactions. For the credit card surveys, the new higher-value transaction categories would include two new categories to obtain $50-$99.99, $100-$499.99, and $500 and above. Transaction value distributions in other surveys would be tailored to what is known from previously collected value-distribution information. For example, the bill payment surveys, which have much smaller proportions of lower-value transactions, would involve the introduction of a richer set of higher-value categories and the removal of lower-value categories.

The Federal Reserve also proposes that various stock variables, such as the number of cards, be reported as the average of monthly totals over the calendar year, replacing the reporting of stocks as of December 31 as requested in the current surveys.

Additional proposed revisions to the surveys contained in the FR 3066b are as follows:

1. General-Purpose Card Network Surveys, (credit card, debit card, and prepaid card): The Federal Reserve proposes restructuring all the card network surveys to better match established categories by which card networks track transactions. In particular, person-present card transactions will be tracked by entry mode (e.g. whether a contact or contactless chip card, card with no chip, or a mobile device was used) and card verification method categories (e.g. signature, PIN, or remote authentication method). Remote transactions would be allocated into several categories, including mail-order/telephone-order purchase (MOTO), internet purchase, recurring, installment, and other categories. Internet purchase transactions would be further allocated into “authenticated (two-factor authentication via 3-D Secure)” and “other” categories. Card transactions by payee location would include an additional category of transactions made to U.S. payees with foreign cards. Respondents would also be asked to report the number of cards provisioned to a mobile wallet or token vault. The proposed credit card survey would include 118 questions compared with 54 in the current survey for a net increase of 64 questions. The proposed debit card survey would include 117 questions compared with 43 in the current survey for a net increase of 74 questions. The proposed prepaid card survey would include 117 questions compared with 40 in the current survey for a net increase of 77 questions.

2. Private-Label Credit Card Merchant Issuer Survey, Private-Label Credit Card Processor Survey, General-Purpose Prepaid Card Processor Survey, and Private-Label Prepaid Card Issuer and Processor Survey: Similar to card network surveys, the Federal Reserve proposes restructuring the transaction entry mode and card verification method categories to better reflect standard industry reports, but in less detail compared with the general purpose card networks. Proposed questions on fraud allocations would be similar, but simpler, as well. The proposed private-label credit card merchant issuer survey includes 69 questions compared with 36 in the current survey for a net increase of 33 questions. The proposed private-label credit card processor survey includes 69 questions compared with 35 in the current survey for a net increase of 34 questions. The proposed general-purpose prepaid card processor survey includes 94 questions compared with 59 in the current survey for a net increase of 35 questions. The proposed private-label prepaid card issuer and processor survey includes 76 questions compared with 48 in the current survey for a net increase of 28 questions.

3. Electronic Benefits Transfer (EBT) Card Processor Survey: EBT processors reported their volumes in the current private-label prepaid card issuer and processor survey. Transaction types in the proposed EBT survey would be broken down into the main types of EBT card programs and questions about types of credits and loads would not be included, making the reporting form more relevant for this group of processors. The proposed EBT card processor survey includes 74 questions compared with 48 in the current private-label prepaid card issuer and processor survey for a net increase of 26 questions.

4. Automated Teller Machine (ATM) Network and ATM Processor Surveys: The Federal Reserve proposes adding surveys regarding ATM transaction volumes, including cash withdrawals by debit, prepaid, and credit cards, deposits of cash or checks, and other general types of ATM transactions. Respondents would report the number of active and total ATMs and allocate them between those that accept chip cards and those that do not. Chip card acceptance terminals would be allocated between those that use contact and contactless chip-acceptance technology.

a. Automated Teller Machine Card Network Survey: Respondents would consist of the domestic ATM networks in the United States. Most respondents also operate general-purpose debit card networks. The proposed number of questions would be 24.

b. Automated Teller Machine Card Processor: Respondents would consist of independent service operators and ATM transaction processors. The proposed number of questions would be 24.

5. Alternative Payment Initiation Method Processor Surveys: The Federal Reserve proposes adding questions regarding fraudulent transactions and, where relevant, doing so by transaction type.

a. Person-to-Person (P2P) and Money Transfer Payment Survey: The Federal Reserve proposes adding new questions on fraud broken down by origination channel. The proposed number of questions would be 33 compared with 22 in the current survey, for a net increase of 11 questions.

b. Online Bill Payment Processor Survey: The Federal Reserve proposes adding new questions on the bill payment funding method broken down by type. Fraudulent transactions would be broken down by origination channel. The proposed number of questions would be 27 compared with 20 in the current survey, for a net increase of 7 questions.

c. Walk-In Bill Payment Processor Survey: The proposed number of questions would be 20 compared with 20 in the current survey, for a net increase of 0 questions.

d. Deferred Payment Processor Survey: The proposed number of questions would be 20 compared with 19 in the current survey, for a net increase of 1 question.

e. Private-Label ACH Debit Card Processor Survey: The Federal Reserve proposes adding a new question regarding the number of active cards. The proposed number of questions would be 18 compared with 21 in the current survey, for a net decrease of 3 questions.

f. Far-field RFID Payment Processor Survey: The proposed number of questions would be 15 compared with 16 in the current survey, for a net decrease of 1 question.

g. Secure Online Payment Processor Survey: Processors would report secure online payment transactions in 2015, broken down into types. The proposed number of questions would be 16 compared with 13 in the current survey, for a net increase of 3 questions.

h. Mobile Wallet Processor Survey: The Federal Reserve proposes adding new questions regarding the number of active and total cards provisioned to the mobile wallet. The proposed number of questions would be 17 compared with 8 in the current survey, for a net increase of 9 questions.

Unlike the FR 3066a, the FR 3066b is designed as a census. The project team would work with a contractor to identify the final list of networks, processors, and issuers from which to collect data. Estimation of national aggregate payment volumes from the survey is based on developing a complete population frame of all relevant organizations and requesting data from each. The survey would be broken up into parts and respondents would only provide information in the sections of the survey applicable to their organizations. In cases where a response is not returned, the missing items would need to be imputed using publically available information and analysis of data from similar organizations that did provide data.

FR 3066c. The FR 3066c would conduct a survey that in past FRPS surveys was referred to as the Check Sample Study (CSS). Versions of the CSS were conducted in four out of five FRPS, including the first and last. The survey instrument design could be modified slightly, but is expected to be very similar to the instrument used in 2013. More importantly, the data collection method may be revised based on proposals received through a competitive bidding process. As noted above, check samples from Reserve Bank processing may be included. The Federal Reserve has developed a low-cost random sampling process. The Federal Reserve proposes that the decision on what approach to use for this survey would be based on an evaluation of the proposals received.

FR 3066d. The Federal Reserve may conduct the ad-hoc Retail Payments Survey Supplement up to one time per year to collect information on specific issues that affect its decision making. The survey topics discussed with the respondents are often time sensitive and the questions of interest may vary with the focus of the survey. Because the relevant questions change with each survey, there is no fixed reporting form. For each survey, the Federal Reserve prepares questions of specific topical interest and then determines the relevant target group to contact. The principal value of the FR 3066d is the flexibility it provides the Federal Reserve to respond quickly to the need for data as new developments occur in the retail payment area. One area of interest pertains to new methods of collecting and aggregating fraud data that help to identify important trends as they emerge. Other topics covered by the FR 3066d may include payments security, speed, efficiency, and other topics that help to explain payment trends and support the Federal Reserve's role in the payments system.

Board of Governors of the Federal Reserve System, November 20, 2015.
Robert deV. Frierson,
Secretary of the Board.

[FR Doc. 2015-30016 Filed 11-24-15; 8:45 am]

BILLING CODE 6210-01-P